DEPARTMENT OF HOUSING AND URBAN DEVELOPMENT

[Docket No. FR-5377-N-04]

Notice of Proposed Information Collection Comment Request Housing Trust Fund

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: December 13, 2010.

ADDRESSES: Interested persons are invited to submit comments regarding this proposal. Comments should refer to the proposal by name and/or OMB Control Number and should be sent to: Colette Pollard, Departmental Paperwork Reduction Act Compliance Officer, Department of Housing and Urban Development, 451 7th Street, SW., Washington, DC 20410; e-mail colette.pollard@hud.gov or telephone (202) 402-3400.

FOR FURTHER INFORMATION CONTACT: Marcia Sigal, Director, Program Policy Division, Office of Affordable Housing Programs, Department of Housing and Urban Development, 451 7th Street, SW., Washington, DC 20410, telephone (202) 708-2684 (this is not a toll free number) for copies of the proposed forms and other available information.

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Housing Trust Fund.

OMB Control Number, if applicable: 2506-Pending.

Description of the need for the information and proposed use: Under Section 1338 of the Federal Housing Enterprises Financial Safety and Soundness Act of Public Law 101-625 (104 Stat. 4079), Title II of the Cranston-Gonzalez National Affordable Housing Act of 1992 and by the Federal Housing Finance Regulatory Reform Act of 2008, as amended, established the Housing Trust Fund (HTF) Program Rule. In accordance with the statute the Act requires a percentage of the unpaid principal balance of total new business for Freddie Mac and Fannie Mae to be allocated as a dedicated source of annual funding for the HTF, unless allocations are suspended by the Director of the Federal Housing Finance Agency. HUD will allocate HTF funds by formula to eligible states or state-designated entities to increase and preserve the supply of decent, safe, sanitary, and affordable housing, with primary attention to rental housing for extremely low-income and very low-income households. The amount of funds available by the formula is the balance remaining after providing for other purposes authorized by Congress, in accordance with the Act and Appropriations. At least 80% of the funds must be spent on rental housing and no more than 10% may be spent to assist first-time homebuyers. The remaining 10% may be used for administration. States may choose to administer HTF funds directly or may assign all or part of the funds to subgrantees to administer its allocation, such as a state housing finance agency or units of local government. States may use HTF funds for the production, preservation, and rehabilitation of affordable rental housing and affordable housing for homeownership through the acquisition, new construction, reconstruction, or rehabilitation of non-luxury affordable housing with suitable amenities. States and/or designated entities will ensure housing compliance with title VI of the Civil Rights Act of 1964, the Fair Housing Act, Section 504 of the Rehabilitation Act of 1973, Section 109 of Title I of the Housing and Community Development Act of 1974, HUD's implementing regulations, and promotion of greater choice of housing opportunities.

Under the HTF Statute, HUD will collect data and produce reports on the Department and on HTF program participants. Information on assisted properties, as well as the owners or tenants of the properties, is needed to determine compliance with the statutory requirements.

Agency form numbers, if applicable: Form HUD-40101.

Members of affected public: State, Local or Tribal Gov.

Estimation of the total number of hours needed to prepare the information collection including number of respondents, frequency of response, and hours of response:

Number of Respondents: 56.

Frequency of Responses: Annually.

Hours per Response: 2.19.

Estimated Total Number of Burden Hours: 28,089.

Respondent's Obligation to Respond: Required to Obtain Benefits.

Status of the proposed information collection: Pending OMB Approval.

Authority: The Paperwork Reduction Act of 1995, 44 U.S.C., chapter 35, as amended.

Dated: July 30, 2010.
Jeanne Van Vlandren,
General Deputy Assistant Secretary for Community Planning and Development (Acting).

[FR Doc. 2010-25906 Filed 10-13-10; 8:45 am]

BILLING CODE 4210-67-P